FEDERAL ELECTION COMMISSION

Sunshine Act Meeting

AGENCY: Federal Election Commission.

DATE & TIME: Thursday, December 6, 2012 at 10:00 a.m.

PLACE: 999 E Street NW., Washington, DC (Ninth Floor).

STATUS: This meeting will be open to the public.

ITEMS TO BE DISCUSSED:

Correction and Approval of the Minutes for the Meeting of November 15, 2012

Draft Advisory Opinion 2012-34: Freedom PAC and Friends of Mike H

Draft Advisory Opinion 2012-35: Global Transaction Services Group, Inc.

Draft Advisory Opinion 2012-36: Green Party of Connecticut

Draft Advisory Opinion 2012-37: Yamaha Motor Corporation, U.S.A.

Proposed Final Audit Report on Minnesota Democratic-Farmer-Labor Party (A09-08)

Audit Division Recommendation Memorandum on McCain-Palin 2008, Inc. and McCain-Palin Compliance Fund, Inc.

Notice of Proposed Rulemaking: Limited Liability Partnerships

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-29309 Filed 11-30-12; 11:15 am]

BILLING CODE 6715-01-P